Notice of February 28, 2007

Continuation of the National Emergency With Respect to Zimbabwe

On March 6, 2003, by Executive Order 13288, I declared a national emergency and blocked the property of persons undermining democratic processes or institutions in Zimbabwe, pursuant to the International Emergency Economic Powers Act (50 U.S.C. 1701-1706). I took this action to deal with the unusual and extraordinary threat to the foreign policy of the United States constituted by the actions and policies of certain members of the Government of Zimbabwe and other persons to undermine Zimbabwe's democratic processes or institutions. These actions have contributed to the deliberate breakdown in the rule of law in Zimbabwe, politically motivated violence and intimidation, and political and economic instability in the southern African region. On November 22, 2005, I issued Executive Order 13391 to take additional steps with respect to the national emergency declared in Executive Order 13288 by ordering the blocking of the property of additional persons undermining democratic processes or institutions in Zimbabwe.

Because the actions and policies of these persons continue to pose an unusual and extraordinary threat to the foreign policy of the United States, the national emergency declared on March 6, 2003, and the measures adopted on that date and on November 22, 2005, to deal with that emergency, must continue in effect beyond March 6, 2007. Therefore, in accordance with section 202(d) of the National Emergencies Act (50 U.S.C. 1622(d)), I am continuing for 1 year the national emergency with respect to the actions and policies of certain members of the Government of Zimbabwe and other persons to undermine Zimbabwe's democratic processes or institutions.

This notice shall be published in the Federal Register and transmitted to the Congress.

THE WHITE HOUSE,

February 28, 2007.

[FR Doc. 07-1001

Filed 3-1-07; 8:49 am]

Billing code 3195-01-P